SMALL BUSINESS ADMINISTRATION

[Disaster Declaration #10205 and #10206]

Louisiana Disaster Number LA-00004

AGENCY: U.S. Small Business Administration.

ACTION: Amendment 10.

SUMMARY: This is an amendment of the Presidential declaration of a major disaster for the State of Louisiana (FEMA-1607-DR), dated September 24, 2005.

Incident: Hurricane Rita.

Incident Period: September 23, 2005 through November 1, 2005.

Effective Date: December 28, 2005.

Physical Loan Application Deadline Date: March 11, 2006.

EIDL Loan Application Deadline Date: June 26, 2006.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, SW., Suite 6050, Washington, DC 20416

SUPPLEMENTARY INFORMATION: The notice of the President's major disaster declaration for the State of Louisiana, dated September 24, 2005, is hereby amended to extend the deadline for filing applications for physical damages as a result of this disaster to March 11, 2006.

All other information in the original declaration remains unchanged.

(Catalog of Federal Domestic Assistance Numbers 59002 and 59008)

Allan I. Hoberman,
Acting Associate Administrator for Disaster Assistance.

[FR Doc. E6-115 Filed 1-9-06; 8:45 am]

BILLING CODE 8025-01-P